DEPARTMENT OF ENERGY

Notice of Request for Information (RFI) on H2@Scale (Hydrogen at Scale): Determining Opportunities To Facilitate Wide-Scale Hydrogen Adoption for Energy Security and Economic Growth

AGENCY: Office of Energy Efficiency and Renewable Energy, Department of Energy (DOE).

ACTION: Request for information (RFI).

SUMMARY: The U.S. Department of Energy (DOE) invites public comment on its Request for Information (RFI) on H2@Scale (Hydrogen at Scale): Determining Opportunities to Facilitate Wide-Scale Hydrogen Adoption for Energy Security and Economic Growth. The Office of Energy Efficiency and Renewable Energy (EERE) is specifically interested in information to quantify the increasing industrial demand for hydrogen, to identify and quantify the available domestic resources capable of generating sufficient hydrogen to sustainably meet the demand in the near- to long-terms across multiple sectors, and to identify opportunities to leverage current industrial infrastructure to better meet the growing demands for hydrogen across sectors.

DATES: Responses to the RFI must be received no later than 5:00 p.m. (ET) on October 31, 2018.

ADDRESSES: Interested parties are invited to submit comments using the Online Response Collector found at the specified web link included in the RFI document. Alternatively, responses can be submitted as an attachment to an email addressed to fy18fctostrandedresources@ee.doe.gov with “H2@Scale RFI” in the subject line. Email attachments can be provided as a Microsoft Word (.docx) file or an Adobe PDF (.pdf) file, prepared in accordance with the detailed instructions in the RFI. Documents submitted electronically should clearly indicate which topic areas and specific questions are being addressed, and should be limited to no more than 10MB in size. The complete RFI [DE-FOA-0001965] document is located at https://eere-exchange.energy.gov/.

FOR FURTHER INFORMATION CONTACT: Questions may be addressed to fy18fctostrandedresources@ee.doe.gov or to Eric Miller at (202) 287-5829. Further instruction can be found in the RFI document posted on EERE Exchange at https://eere-exchange.energy.gov/.

SUPPLEMENTARY INFORMATION: The H2@Scale initiative aims to develop and enable transformational technologies that can sustainably produce and efficiently utilize large quantities of affordable hydrogen to collectively enable energy storage, energy security, grid resiliency, domestic employment, and American dominance in energy innovation. The purpose of this RFI is to solicit feedback from industry, academia, research laboratories, government agencies, and other stakeholders on opportunities and strategies for expanding and diversifying current hydrogen supply options, and for leveraging and multi-purposing current industrial infrastructure to accommodate widespread hydrogen usage. The RFI seeks input in five topic areas: Hydrogen supply expansion and diversification; expansion of markets requiring significant hydrogen demand; leveraging and/or multi-purposing industries and infrastructure to facilitate widespread adoption of hydrogen; potential sponsored competitions to incentivize widespread adoption of hydrogen across multiple sectors; and other innovative approaches to help enable H2@Scale.

Confidential Business Information: Because information received in response to this RFI may be used to structure future programs, funding and/or otherwise be made available to the public, respondents are strongly advised to not include any information in their responses that might be considered business sensitive, proprietary, or otherwise confidential. If, however, a respondent chooses to submit business sensitive, proprietary, or otherwise confidential information, it must be clearly and conspicuously marked as such in the response as detailed in the RFI [DE-FOA-0001965] at: https://eere-exchange.energy.gov/.

Issued in Washington, DC, on July 23, 2018.
Sunita Satyapal,
Director, Fuel Cell Technologies Office.

[FR Doc. 2018-16578 Filed 8-1-18; 8:45 am]

BILLING CODE 6450-01-P